DEPARTMENT OF HEALTH AND HUMAN SERVICES

[Document Identifier: OS-0990-0407-60D]

Agency Information Collection Request. 60-Day Public Comment Request

AGENCY: Office of Minority Health, Office of the Secretary, Department of Health and Human Services.

ACTION: Notice.

SUMMARY: In compliance with the requirement of the Paperwork Reduction Act of 1995, the U.S. Department of Health and Human Services (HHS), Office of Minority Health (OMH) is publishing the following summary of a proposed collection for public comment.

DATES: Comments on the information collection request (ICR) must be received on or before April 21, 2026.

ADDRESSES: Submit your comments to minorityhealthinfo@hhs.gov or by calling (240) 453-0492.

FOR FURTHER INFORMATION CONTACT: When submitting comments or requesting information, please include the document identifier OS-0990-0407-60D and project title “OMH Think Cultural Health” for reference. Submit requests to the HHS Office of Minority Health, at minorityhealthinfo@hhs.gov or by calling (240) 453-0492.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: OMH Think Cultural Health.

Type of Collection: Reinstatement without Change of a Previously Approved Collection.

OMB No.: 0990-0407.

Abstract: The Department of Health and Human Services (HHS), Office of Minority Health (OMH) is requesting approval by OMB on a reinstatement without change of a previously approved collection of information. The Think Cultural Health (TCH) website is an initiative of HHS OMH that provides resources and tools to promote cultural and linguistic competency in health and health care. The TCH website offers a suite of e-learning programs that afford health and health care professionals the ability to earn continuing education credits through training in cultural and linguistic competency.

Need and Proposed Use of the Information: The data will be used to enable health and health care professionals to register for courses, obtain accredited continuing education credits, and help ensure that TCH offerings remain relevant, useful, and responsive to the needs of their target audiences. The findings from the data collection will be of interest to HHS's OMH in supporting maintenance and revisions of the offerings on the TCH website.

Likely Respondents: Likely respondents are users of the TCH e-learning program(s) and/or e-resource(s). There are no requirements for annual, quarterly or monthly responses. A single respondent completes the registration process to access an e-learning program or e-resource on the website only one time and completes a course-specific evaluation form for each e-learning program course/unit or e-resource per completion. A respondent may be invited to participate in the follow-up survey, a focus group, or a key informant interview and will not be asked to participate in more than one follow-up activity (i.e., survey, focus group, or key informant interview).

Total Estimated Annualized Burden—Hours
Type of information collection | Respondents | Number of respondents | Number of responses per respondents | Average burden per response (minutes) | Total burden hours
Registration | Health and Health Care Professionals | 118,352 | 1 | 3/60 | 5,918
Course/unit Evaluation | Health and Health Care Professionals | 118,352 | 1 | 3/60 | 5,918
Follow-Up Survey | Health and Health Care Professionals | 4,208 | 1 | 10/60 | 701
Focus Groups | Health and Health Care Professionals | 15 | 1 | 120/60 | 30
Key Informant Interviews | Health and Health Care Professionals | 13 | 1 | 60/60 | 13
Total |  | 249,940 |  |  | 12,580

HHS OMH estimates the total annual burden for this collection of information is 12,580 hours. The estimated burden for the information collection reflects an overall annual increase of 10,576 hours. We attribute this adjustment to an increase in the number of respondents utilizing the TCH e-learning program(s) and/or e-resource(s).

Catherine Howard,
Paperwork Reduction Act Reports Clearance Officer, Office of the Secretary.

[FR Doc. 2026-03313 Filed 2-19-26; 8:45 am]

BILLING CODE 4150-29-P